NATIONAL AERONAUTICS AND SPACE ADMINISTRATION

[Notice (03-015)]

NASA Advisory Council (NAC), Task Force on International Space Station Operational Readiness; Meeting

AGENCY: National Aeronautics and Space Administration.

ACTION: Notice of meeting cancellation.

Federal Register Citation of Previous Announcement: 68 FR 3280, Notice Number 03-005, January 23, 2003.

Previously Announced Date of Meeting: February 21, 2003, 12 Noon-1 p.m. Eastern Standard Time.

Meeting has been cancelled and will be rescheduled for a later date.

FOR FURTHER INFORMATION CONTACT: Mr. Lee Pagel, Code IH, National Aeronautics and Space Administration, Washington, DC 20546-0001, 202/358-4621.

June W. Edwards,
Advisory Committee Management Officer, National Aeronautics and Space Administration.

[FR Doc. 03-3996 Filed 2-18-03; 8:45 am]

BILLING CODE 7510-01-P